DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of subchapter D, chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than December 28, 2001.

Also, interested persons are invited to submit written comments regarding the subject matter of the petitions to the Director of DTAA at the address shown below not later than December 28, 2001.

Petitions filed with the Governors are available for inspection at the Office of the Director, DTAA, ETA, DOL, Room C-5311, 200 Constitution Avenue, NW., Washington, DC 20210.

Signed at Washington, DC this 5th day of December, 2001.
Edward A. Tomchick,
Director, Division of Trade Adjustment Assistance.

APPENDIX
Subject firm | Location | Date received at Governor's office | Petition No. | Articles produced
Indiana Knitwear—Willacy Apparel (Co.) | Lyford, TX | 11/13/2001 | NAFTA-5,539 | Sportswear apparel.
Plaid Clothing (UNITE) | Erlander, KY | 10/30/2001 | NAFTA-5,540 | Men's tailored clothing.
Donaldson Aercology (Co.) | Old Saybrook, CT | 11/13/2001 | NAFTA-55,541 | Air filtration equipment.
Lea Wayne Knitting Mills (Co.) | Morristown, TN | 11/10/2001 | NAFTA-5,542 | Socks and hosiery.
Nokia Networks (Wkrs) | Ft. Worth, TX | 11/19/2001 | NAFTA-5,543 | Prototype and prezero modules.
Powerbrace Corporation (Wkrs) | Kenosha, WI | 11/19/2001 | NAFTA-5,544 | Railcar gates and lock rods.
Daniel Woodhead (Co.) | Northbrook, IL | 11/16/2001 | NAFTA-5,545 | Electrical lighting products.
Storm Copper Components (Co.) | Decatur, TN | 11/16/2001 | NAFTA-5,546 | Wire harnesses.
Marconi (Wkrs) | Milwaukee, WI | 11/16/2001 | NAFTA-5,547 | Telecommunication cabinets.
Clebert's Hosiery Mill (Co.) | Connelly Springs, NC | 11/16/2001 | NAFTA-5,548 | Knit, seam and inspect hosiery.
Western Log Homes (Co.) | Chiloquin, OR | 11/05/2001 | NAFTA-5,549 | Rails, vineyard posts, retaining walls.
DataMark (Wkrs) | El Paso, TX | 11/15/2001 | NAFTA-5,550 | Data entries.
Foredtert Malting (UAW) | Milwaukee, WI | 11/15/2001 | NAFTA-5,551 | Malt for breweries.
Segro Colonial Abrasives (Co.) | Aberdeen, NC | 11/14/2001 | NAFTA-5,552 | Abrasives.
Gulford Mills (UNITE) | Pine Grove, PA | 11/13/2001 | NAFTA-5,553 | Apparel.
PSW Industries—Tempel Steel (Co.) | Michigan City, IN | 11/13/2001 | NAFTA-5,554 | Steel laminations.
Gillette Company (IBT) | Iowa City, IA | 11/13/2001 | NAFTA-5,555 | Toothbrushes etcs.
Alfa Laval—Tri Clover (Wkrs) | Pleasant Prairie, WI | 11/19/2001 | NAFTA-5,556 | Piping systems.
Teleflex Automotive (Wkrs) | Waterbury, CT | 11/16/2001 | NAFTA-5,557 | Automotive cables.
MoCaro Dyeing and Finishing (Co.) | Statesville, NC | 11/19/2001 | NAFTA-5,558 | T-shirts and sweatshirts.
Mike Dent Enterprises (Co.) | Barns, OR | 11/09/2001 | NAFTA-5,559 | Logging.
Fine Tech—Daeduck International (Co.) | Durham, NC | 11/20/2001 | NAFTA-5,560 | Printed circuit boards.
OSAN (UNITE) | Boxertown, PA | 11/20/2001 | NAFTA-5,561 | Men's pants.
Kellogg Crankshaft (Wkrs) | Jackson, MI | 11/20/2001 | NAFTA-5,562 | Crankshafts.
CNB International (Wkrs) | Hastings, MI | 11/20/2001 | NAFTA-5,563 | Precision repair parts.
Como Products (UAW) | Columbus, IN | 11/16/2001 | NAFTA-5,564 | Television cabinets.
R. G. Barry, Texas LP (Co.) | San Angelo, TX | 11/21/2001 | NAFTA-5,565 | House slipper shoe sole.
Lucent Technologies (IBEW) | Columbus, OH | 10/15/2001 | NAFTA-5,566 | Elecom equipment.
Akers National Roll (Co.) | Hyde Park, PA | 11/20/2001 | NAFTA-5,567 | Steel rolls.
Dimension Carbide (Co.) | Guys Mill, PA | 11/20/2001 | NAFTA-5,568 | Grinding of carbide dies and punches.
NACCO Materials Handling (Co.) | Greenville, NC | 11/20/2001 | NAFTA-5,569 | Lower weldments.
Antec Corporation (Co.) | El Paso, TX | 11/20/2001 | NAFTA-5,570 | Plastic molded parts.
Wesley Industries (Co.) | Bloomfield Hills, MI | 11/26/2001 | NAFTA-5,571 | Heads, rotors and bearing caps.
Regal Manufacturing (Wkrs) | Hickory, NC | 11/26/2001 | NAFTA-5,572 | Yarn.
Metalloy (Wkrs) | Hudson, MI | 11/26/2001 | NAFTA-5,573 | Freightliner.
VF Corporation (Wkrs) | Lebanon, MO | 11/26/2001 | NAFTA-5,574 | Jeans.
Saturn Electronics and Engineering (Wkrs) | Auburn Hills, MI | 11/20/2001 | NAFTA-5,575 | Circuit boards.
Von Hoffman Press (Wkrs) | Owensville, MO | 11/26/2001 | NAFTA-5,576 | Textbooks, college and children's books.
ESP—Jocessee Trading (Co.) | Easley, SC | 11/20/2001 | NAFTA-5,577 | Comforters, sheets, pillows etc.
Detroit Tool and Engineering (Wkrs) | Lebanon, MO | 11/26/2001 | NAFTA-5,578 | Household appliances.
A. S. Haight (UNITE) | Cartersville, GA | 11/27/2001 | NAFTA-5,579 | Screen printing cloth.
InterMetro Industries (Co.) | Douglas, GA | 11/26/2001 | NAFTA-5,580 | Wire steel shelving.
Galey and Land (G and L Service) (Wkrs) | Eagle Pass, TX | 12/03/2001 | NAFTA-5,581 | Men's and women's pants.
Kentucky Textiles (Wkrs) | Paris, KY | 11/20/2001 | NAFTA-5,582 | Swimsuits.
Weavexx (Wkrs) | Greenville, TN | 11/27/2001 | NAFTA-5,583 | Paper machinebetting.
Carrier Corporation (Wkrs) | Conway, AR | 11/28/2001 | NAFTA-5,584 | Ice cream and frozen novelty cases.
VF Jeanswear (Wkrs) | Andrew, NC | 11/27/2001 | NAFTA-5,585 | Denim jeans.
Celectica Corporation (Co.) | Milwaukie, OR | 11/28/2001 | NAFTA-5,586 | Design power supplies.
Glenayre Electronics (Wkrs) | Quincy, IL | 11/28/2001 | NAFTA-5,587 | Power amplifiers.
TRW Automotive Breaking Systems (UAW) | Milford, MI | 11/28/2001 | NAFTA-5,588 | Valves.
GDX Automotive—Gencorp (USWA) | Marion, IN | 11/28/2001 | NAFTA-5,589 | Bubber weather seals.
Hoskins Manufacturing (Co.) | Mio, MI | 11/28/2001 | NAFTA-5,590 | Thermal couple, resistance wire etc.
Hoskins Thermal Systems (Co.) | Lewiston, MI | 11/28/2001 | NAFTA-5,591 | Thermal couple and resistance wire etc.
VF Jeanswear (Co.) | Jackson, TN | 11/28/2001 | NAFTA-5,592 | Jeans.
Boeing Defence and Space (Wkrs) | Oak Ridge, TN | 11/30/2001 | NAFTA-5,593 | Boeing airplane parts.
Square D (Wkrs) | Middletown, OH | 11/27/2001 | NAFTA-5,594 | Heavy duty safety switch.
Tenneco Automotive (Co.) | Ligonier, IN | 11/29/2001 | NAFTA-5,595 | Car exhaust systems.
Teva Pharmaceuticals (Co.) | Elmwood Park, NJ | 11/18/2001 | NAFTA-5,596 | Antibiotics.
Spicer Driveshaft (Co.) | Lima, OH | 11/30/2001 | NAFTA-5,597 | Companion flanges.
Kraft Foods (Co.) | Minneapolis, MN | 11/21/2001 | NAFTA-5,598 | Hot cereals.
Artex International (Co.) | Boiling Springs, NC | 12/04/2001 | NAFTA-5,599 | Linen napkins and table skiring.
DK Mold Engineering (Co.) | Wyoming, MI | 10/21/2001 | NAFTA-5,600 | Die for plastic injection molds.

[FR Doc. 01-31135 Filed 12-17-01; 8:45 am]

BILLING CODE 4510-30-M